DEPARTMENT OF ENERGY

Federal Energy Regulatory Commission

[Docket No. RP03-241-000]

KeySpan LNG, LP and Algonquin ALNG, LP; Notice of Tariff Filing

January 29, 2003.

Take notice that on January 27, 2003, KeySpan LNG, LP (KLNG) and Algonquin LNG, LP (ALNG) tendered for filing its FERC Gas Tariff, Third Revised Volume No. 1, the tariff sheets attached to Appendix A to the filing, with an effective date of January 27, 2003.

KLNG and ALNG state that the filing is being filed to reflect a corporate name change that became effective January 24, 2003.

KLNG and ALNG state that copies of its filing have been mailed to all affected customers and interested state commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 10, 2003.

Magalie R. Salas,
Secretary.

[FR Doc. 03-2887 Filed 2-5-03; 8:45 am]

BILLING CODE 6717-01-P